ENVIRONMENTAL PROTECTION AGENCY

[EPA-HQ-OW-2024-0063; FRL-12335-01-OMS]

Agency Information Collection Activities; Submission to the Office of Management and Budget for Review and Approval; Comment Request; Clean Watersheds Needs Survey (CWNS) (Renewal)

AGENCY: Environmental Protection Agency (EPA).

ACTION: Notice.

SUMMARY: The Environmental Protection Agency (EPA) has submitted an information collection request (ICR), “Clean Watersheds Needs Survey (CWNS) (Renewal)” (EPA ICR Number 0318.14, OMB Control Number 2040-0050) to the Office of Management and Budget (OMB) for review and approval in accordance with the Paperwork Reduction Act. This is a proposed extension of the ICR, which is currently approved through October 31, 2024. Public comments were previously requested via the Federal Register on March 11, 2024, during a 60-day comment period. This notice allows for an additional 30 days for public comments.

DATES: Comments may be submitted on or before November 14, 2024.

ADDRESSES: Submit your comments, referencing Docket ID No. EPA-HQ-OW-2024-0063, online using www.regulations.gov (our preferred method) or by mail to: EPA Docket Center, Environmental Protection Agency, Mail Code 28221T, 1200 Pennsylvania Ave. NW, Washington, DC 20460.

EPA's policy is that all comments received will be included in the public docket without change including any personal information provided, unless the comment includes profanity, threats, information claimed to be Confidential Business Information (CBI) or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Joshua Klein, Office of Water, State Revolving Fund Branch, (7309J), Environmental Protection Agency, 1200 Pennsylvania Ave. NW, Washington, DC 20460; telephone number: (202) 557-6786; email address: cwns@epa.gov.

SUPPLEMENTARY INFORMATION: This is a proposed extension of the ICR, which is currently approved through October 31, 2024. An agency may not conduct or sponsor and a person is not required to respond to a collection of information unless it displays a currently valid OMB control number.

Public comments were previously requested via the Federal Register on March 11, 2024, during a 60-day comment period (89 FR 17464). This notice allows for an additional 30 days for public comments. Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Abstract: The Clean Watersheds Needs Survey (CWNS) is required by the Clean Water Act (CWA) section 516(b)(1)(B) as well as CWA section 609, which was added by the Infrastructure Investment and Jobs Act (IIJA), Public Law 117-58, November 15, 2021. It is a periodic inventory of existing and planned publicly owned wastewater conveyance and treatment, combined sewer overflow correction, stormwater management and other water pollution control infrastructure in the United States, as well as an estimate of how much of this infrastructure may need to be repaired or upgraded. The CWNS also asked for information regarding new infrastructure that is needed. The CWNS is a joint effort between the EPA and the states. The CWNS collects cost and technical data from states that is associated with POTWs and other water pollution control facilities, existing and planned. The respondents who provide this information to the EPA are state and territory agencies responsible for environmental pollution control (states) and local facility contacts who provide documentation to the states (facilities).

No confidential information is used, nor is sensitive information protected from release under the Public Information Act. The EPA achieves national consistency in the final results through the application of uniform guidelines and validation techniques.

Form numbers: None.

Respondents/affected entities: States, Territories, and Facilities.

Respondent's obligation to respond: Voluntary.

Estimated number of respondents: 56 States and Territories, 6,684 Facilities (per year).

Frequency of response: Every 4 years.

Total estimated burden: 13,342 hours (per year). Burden is defined at 5 CFR 1320.03(b).

Total estimated cost: $799,208 (per year), includes $0 annualized capital or operation & maintenance costs.

Changes in the estimates: There is an increase of 3,698 hours in the total estimated respondent burden compared with the ICR currently approved by OMB. This increase is based upon an increase in facility universe. The prior ICR estimated that states would submit only half of their facilities (16,048). The majority of the states submitted most of their facilities in 2022 (30,881), almost doubling the estimated facility universe.

Courtney Kerwin,
Director, Regulatory Support Division.

[FR Doc. 2024-23683 Filed 10-11-24; 8:45 am]

BILLING CODE 6560-50-P